DEPARTMENT OF TRANSPORTATION

Federal Railroad Administration

[Docket Number FRA-2003-15010]

Petition for Extension of Waiver of Compliance

Under part 211 of title 49 Code of Federal Regulations (CFR), this document provides the public notice that on February 28, 2024, CPKC ¹ petitioned the Federal Railroad Administration (FRA) for an extension of a waiver of compliance from certain provisions of the Federal railroad safety regulations contained at 49 CFR part 241 (United States Locational Requirements for Dispatching of United States Rail Operations). The relevant Docket Number is FRA-2003-15010.

¹ On April 14, 2023, Canadian Pacific Railway Company (CP) and Kansas City Southern (KCS) combined to create a single railway company doing business under the trademark CPKC. The original waiver in this docket was granted to CP.

Specifically, CPKC requests an extension of relief pursuant to 49 CFR 241.7(c), Fringe border dispatching, to allow the continuation of Canadian dispatching of three locations in the United States: (1) 1.8 miles of the Windsor Subdivision between Windsor, Ontario, Canada, and Detroit, Michigan, United States; ² and (2) two track segments totaling 23.44 miles on the Newport Subdivision between Richford, Vermont, and East Richford, Vermont, United States, and between North Troy, Vermont, and Newport, Vermont, United States.³ CPKC notes that all locations are dispatched by the Operations Centre in Calgary, Alberta, Canada. In support of its request, CPKC states that “in the approximately twenty-one years since the original waiver was granted, CPKC has operated safely on the Windsor Subdivision and has operated safely on the Newport Subdivision since the acquisition of this territory in 2020.” CPKC adds that it “is not aware of any issues that have developed since the last waiver was granted.”

² This section on the Windsor Subdivision is defined in appendix A to part 241, List of Lines Being Extraterritorially Dispatched in Accordance with the Regulations Contained in 49 CFR part 241, Revised as of October 1, 2002.

³ The track segments on the Newport Subdivision cross the U.S./Canada border at three separate locations.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at https://www.regulations.gov. Follow the online instructions for submitting comments.

Communications received by July 8, 2024 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-10179 Filed 5-8-24; 8:45 am]

BILLING CODE 4910-06-P